POSTAL SERVICE

39 CFR Part 111

Plant-Verified Drop Shipment (PVDS)—Nonpostal Documentation

AGENCY: Postal Service™.

ACTION: Final rule.

SUMMARY: The Postal Service is revising Mailing Standards of the United States Postal Service, Domestic Mail Manual (DMM®) 705.15. 2.14 to clarify that PS Form 8125, Plant-Verified Drop Shipment (PVDS) Verification and Clearance, is the sole source of evidence for USPS® purposes of the transfer of the custody of pieces entered as a mailing at the time of induction; to clarify that Postal employees may, upon request, sign additional nonpostal documents when presented by transportation providers; and to require segregation of documentation presented at the time of induction.

DATES: Effective Date: July 6, 2010.

FOR FURTHER INFORMATION CONTACT: Susan Thomas at 202-268-8069.

SUPPLEMENTARY INFORMATION: As a result of reviews of USPS policy concerning practices at induction points of plant-verified drop shipment mailings, the Postal Service is adopting this final rule to clarify the use and purpose of PS Form 8125 as well as other documents that mailers' nonpostal transportation providers (carriers) may present at the time of induction. The final rule provides that PS Forms 8125 must be segregated from any other documentation presented at the time of mailing. This measure ensures that postal personnel will be able to easily identify and process necessary postal documentation at the time of induction, thereby promoting the efficiency of operations. Further, the final rule clarifies that a PS Form 8125 serves as the sole source of evidence for USPS purposes of the transfer of the custody of pieces entered at the time of induction. No other form of documentation serves this purpose.

The Postal Service adopts the following changes to the Mailing Standards for the United States Postal Service, Domestic Mail Manual (DMM), which is incorporated by reference in the Code of Federal Regulations. See 39 CFR Part 111.1.

List of Subjects in 39 CFR Part 111

Administrative practice and procedure, Postal Service.

Accordingly, 39 CFR Part 111 is amended as follows:

PART 111—[AMENDED]

1. The authority citation for 39 C.F.R. Part continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM) as follows:

Mailing Standards of the United States Postal Service, Domestic Mail Manual (DMM)

* * * * *

700 Special Standards

* * * * *

705 Advanced Preparation and Special Postage Payment Systems

* * * * *

15.0 Plant-Verified Drop Shipment

* * * * *

15.2 Program Participation

* * * * *

[Add new 705.15.2.14 as follows:]

15.2.14 Form 8125—Segregation and Nonpostal Documentation

PS Forms 8125 must be segregated from all other nonpostal documentation and presented separately to USPS personnel at the time of induction. Nonpostal proof-of-delivery documents such as delivery receipts or bills of lading presented by a mailer's transportation provider [carrier] are not substitutes for PS Forms 8125. USPS personnel may, upon request, sign such documents when presented by carriers. A PS Form 8125 signed by a postal employee (or electronic equivalent file in the Electronic Verification System (eVS)) serves as the sole evidence of the transfer of the custody of pieces entered as a mailing at the time of induction. The Postal Service does not consider a proof-of-delivery document such as a delivery receipt or a bill of lading furnished by a USPS customer's carrier as proof of mailing, acceptance, or the amount of mail tendered. Any signature by a postal employee or agent on any nonpostal form does not serve any mail acceptance purpose. If an inconsistency between the information on a PS Form 8125 and a carrier- or mailer-provided document designed to evidence the transfer of custody of pieces entered as a mailing at the time of induction exists, the information on PS Form 8125 prevails insofar as the USPS is concerned.

* * * * *

We will publish an amendment to 39 CFR 111 to reflect these changes.

Stanley F. Mires,
Chief Counsel, Legislative.

[FR Doc. 2010-12885 Filed 6-2-10; 8:45 am]

BILLING CODE 7710-12-P